NATIONAL SCIENCE FOUNDATION

Membership of National Science Foundation's Senior Executive Service Performance Review Board

AGENCY: National Science Foundation.

ACTION: Announcement of Membership of the National Science Foundation's Senior Executive Service Performance Review Board.

SUMMARY: This announcement of the membership of the National Science Foundation's Senior Executive Service Performance Review Board is made in compliance with 5 U.S.C. 4314(c)(4).

ADDRESSES: Comments should be addressed to Director, Division of Human Resources Management, National Science Foundation, Room 315, 4201 Wilson Boulevard, Arlington, VA 22230.

FOR FURTHER INFORMATION CONTACT: Mr. Joseph F. Burt at the above address or (703) 292-8180.

SUPPLEMENTARY INFORMATION: The membership of the National Science Foundation's Senior Executive Service Performance Review Board is as follows:

Kathie L. Olsen, Deputy Director, Chairperson.

Anthony A. Arnolie, Director, Office of Information and Resource Management and Chief Human Capital Officer.

Richard A. Behnke, Head, Upper Atmosphere Research Section.

Deborah L. Crawford, Deputy Assistant Director for Computer and Information Science and Engineering.

Penelope L. Firth, Deputy Director, Division of Environmental Biology.

Deborah F. Lockhart, Deputy Director, Division of Mathematical Sciences.

Martha A. Rubenstein, Director, Budget Division.

Dated: September 16, 2008.
Joseph F. Burt,
Director, Division of Human Resources Management.

[FR Doc. E8-22005 Filed 9-19-08; 8:45 am]

BILLING CODE 7555-01-M